DEPARTMENT OF ENERGY

Federal Energy Regulatory Commission

Combined Notice of Filings #1

Take notice that the Commission received the following electric corporate filings:

Docket Numbers: EC16-192-000.

Applicants: Boulder Solar II, LLC, Avangrid Renewables, LLC.

Description: Joint Application of Boulder Solar II, LLC, et. al. for Authorization of Transaction Under Section 203 of the FPA, and Requests for Shortened Comment Period, Expedited Action, Waivers of Filing Requirements and Confidential Treatment.

Filed Date: 9/26/16.

Accession Number: 20160926-5285.

Comments Due: 5 p.m. ET 10/17/16.

Take notice that the Commission received the following electric rate filings:

Docket Numbers: ER10-2302-006.

Applicants: Public Service Company of New Mexico.

Description: Supplement to December 29, 2015 Public Service Company of New Mexico submits Triennial Market Power Update. [CD being filed under separate cover].

Filed Date: 9/27/16.

Accession Number: 20160927-5084.

Comments Due: 5 p.m. ET 10/18/16.

Docket Numbers: ER10-2633-027; ER10-2570-027; ER10-2717-027; ER10-3140-027; ER13-55-017.

Applicants: Birchwood Power Partners, L.P., Shady Hills Power Company, L.L.C., EFS Parlin Holdings, LLC, Inland Empire Energy Center, LLC, Homer City Generation, L.P.

Description: Notice of Non-Material Change in Status of the GE Companies.

Filed Date: 9/26/16.

Accession Number: 20160926-5219.

Comments Due: 5 p.m. ET 10/17/16.

Docket Numbers: ER16-2669-000.

Applicants: Consumers Energy Company.

Description: Initial rate filing: Blackstart Service to be effective 10/1/2016.

Filed Date: 9/26/16.

Accession Number: 20160926-5214.

Comments Due: 5 p.m. ET 10/17/16.

Docket Numbers: ER16-2670-000.

Applicants: Orange and Rockland Utilities, Inc.

Description: Tariff Cancellation: Cancellation of Tariff Identifier ER16-896 to be effective 12/31/9998.

Filed Date: 9/26/16.

Accession Number: 20160926-5216.

Comments Due: 5 p.m. ET 10/17/16.

Docket Numbers: ER16-2671-000.

Applicants: FirstEnergy Solutions Corp.

Description: § 205(d) Rate Filing: Normal filing 2016 to be effective 11/26/2015.

Filed Date: 9/27/16.

Accession Number: 20160927-5072.

Comments Due: 5 p.m. ET 10/18/16.

Docket Numbers: ER16-2672-000.

Applicants: Georgia Power Company.

Description: § 205(d) Rate Filing: Amendment of Georgia Power Company Rate Schedule No. 850 to be effective 11/1/2016.

Filed Date: 9/27/16.

Accession Number: 20160927-5098.

Comments Due: 5 p.m. ET 10/18/16.

Docket Numbers: ER16-2673-000.

Applicants: Public Service Company of Colorado.

Description: § 205(d) Rate Filing: 20160927_SAP Production Clean Up to be effective 1/1/2016.

Filed Date: 9/27/16.

Accession Number: 20160927-5112.

Comments Due: 5 p.m. ET 10/18/16.

Docket Numbers: ER16-2674-000.

Applicants: Public Service Company of Colorado.

Description: § 205(d) Rate Filing: 20160927_SAP Production Formula Rate to be effective 4/16/2016.

Filed Date: 9/27/16.

Accession Number: 20160927-5113.

Comments Due: 5 p.m. ET 10/18/16.

Docket Numbers: ER16-2675-000.

Applicants: AltaGas Pomona Energy Storage Inc.

Description: Baseline eTariff Filing: AltaGas Pomona Energy Storage Inc. MBR Tariff to be effective 10/1/2016.

Filed Date: 9/27/16.

Accession Number: 20160927-5137.

Comments Due: 5 p.m. ET 10/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2016.
Nathaniel J. Davis, Sr.,
Deputy Secretary.

[FR Doc. 2016-23844 Filed 9-30-16; 8:45 am]

BILLING CODE 6717-01-P